DEPARTMENT OF TRANSPORTATION

Office of the Secretary

Aviation Proceedings, Agreements Filed During Week Ending October 12, 2001

The following Agreements were filed with the Department of Transportation under provisions of 49 U.S.C. Sections 412 and 414. Answers may be filed within 21 days after the filing of the applications.

Docket Number: OST-2001-10802.

Date Filed: October 9, 2001.

Parties: Members of the International Air Transport Association.

Subject: PTC2 EUR 0413 dated 9 October 2001; Mail Vote 151—Resolution 010p; TC2 Within Europe Special Passenger Amending Resolution between Germany and Europe; Intended Effective Date: 1 November 2001.

Docket Number: OST-2001-10803.

Date Filed: October 9, 2001.

Parties: Members of the International Air Transport Association.

Subject: PTC2 EUR 0411 dated 9 October 2001; Mail Vote 152—Resolution 010q; TC2 Within Europe Special Passenger Amending Resolution between Switzerland and Europe; Intended Effective Date: 15 October 2001.

Docket Number: OST-2001-10804.

Date Filed: October 9, 2001.

Parties: Members of the International Air Transport Association.

Subject: PTC2 EUR 0414 dated 9 October 2001; Mail Vote 153—Resolution 010r; TC2 Within Europe Special Passenger Amending Resolution between Belgium and Europe; Intended Effective Date: 15 October 2001.

Docket Number: OST-2001-10805.

Date Filed: October 9, 2001.

Parties: Members of the International Air Transport Association.

Subject: PTC2 EUR 0415 dated 9 October 2001; Mail Vote 155—Resolution 010t; TC2 Within Europe Special Passenger Amending Resolution between Spain and Europe; Intended Effective Date: 15 October 2001.

Docket Number: OST-2001-10806.

Date Filed: October 9, 2001.

Parties: Members of the International Air Transport Association.

Subject: PTC2 EUR 0417 dated 9 October 2001; Mail Vote 156—Resolution 010u; TC2 Within Europe Special Passenger Amending Resolution from France to Europe; Intended Effective Date: 15 October 2001.

Docket Number: OST-2001-10807.

Date Filed: October 10, 2001.

Parties: Members of the International Air Transport Association.

Subject: PTC2 EUR 0418 dated 12 October 2001; Mail Vote 158—Resolution 010w; TC2 Within Europe Special Passenger Amending Resolution between Portugal and Europe; Intended Effective Date: 21 October 2001.

Docket Number: OST-2001-10821.

Date Filed: October 10, 2001.

Parties: Members of the International Air Transport Association.

Subject: PTC2 EUR 0419 dated 12 October 2001; Mail Vote 159—Resolution 010x; TC2 Within Europe Special Passenger Amending Resolution between Netherlands and Europe; Intended Effective Date: 15 October 2001.

Docket Number: OST-2001-10822.

Date Filed: October 11, 2001.

Parties: Members of the International Air Transport Association.

Subject: PTC2 EUR 0420 dated 12 October 2001; Mail Vote 160—Resolution 010y; TC2 Within Europe Special Passenger Amending Resolution from Luxembourg to Europe; Intended effective date: 22 October 2001.

Docket Number: OST-2001-10823.

Date Filed: October 11, 2001.

Parties: Members of the International Air Transport Association.

Subject: PTC2 EUR 0421 dated 12 October 2001; Mail Vote 161—Resolution 010z; TC2 Within Europe Special Passenger Amending Resolution from Morocco to Europe; Intended effective date: 22 October 2001.

Docket Number: OST-2001-10824.

Date Filed: October 11, 2001.

Parties: Members of the International Air Transport Association.

Subject: PTC2 EUR 0422 dated 12 October 2001; Mail Vote 162—Resolution 010a; TC2 Within Europe Special Passenger Amending Resolution between Malta and Europe; Intended effective date: 1 November 2001.

Docket Number: OST-2001-10825.

Date Filed: October 11, 2001.

Parties: Members of the International Air Transport Association.

Subject: PTC2 EUR 0423 dated 12 October 2001; Mail Vote 163—Resolution 010b; TC2 Within Europe Special Passenger Amending Resolution between Estonia and Europe; Intended effective date: 22 October 2001.

Docket Number: OST-2001-10826.

Date Filed: October 11, 2001.

Parties: Members of the International Air Transport Association.

Subject: PTC2 EUR 0416 dated 12 October 2001; Mail Vote 157—Resolution 010v; TC2 Within Europe Special Passenger Amending Resolution from Slovenia to Europe; Intended effective date: 1 November 2001.

Docket Number: OST-2001-10827.

Date Filed: October 11, 2001.

Parties: Members of the International Air Transport Association.

Subject: PTC2 EUR 0425 dated 12 October 2001; Mail Vote 165—Resolution 010d; TC2 Within Europe Special Passenger Amending Resolution from Finland to Europe; Intended effective date: 1 November 2001.

Docket Number: OST-2001-10828.

Date Filed: October 11, 2001.

Parties: Members of the International Air Transport Association.

Subject: PTC2 EUR 0424 dated 12 October 2001; Mail Vote 164—Resolution 010c; TC2 Within Europe Special Passenger Amending Resolution from Poland to Europe; Intended effective date: 1 November 2001.

Andrea M. Jenkins,
Federal Register Liaison.

[FR Doc. 01-26917 Filed 10-24-01; 8:45 am]

BILLING CODE 4910-62-P